DEPARTMENT OF HEALTH AND HUMAN SERVICES

Centers for Disease Control and Prevention

National Center for Injury Prevention and Control Initial Review Group

In accordance with section 10(a) (2) of the Federal Advisory Committee Act (Pub. L. 92-463), the Centers For Disease Control and Prevention (CDC) announce the following meeting:

Name: National Center for Injury Prevention and Control (NCIPC), Initial Review Group (IRG).

Time and Date: 1 p.m.-5 p.m., May 20, 2005.

Place: The conference call will originate at the National Center for Injury Prevention and Control, in Atlanta, Georgia.

Status: Closed: 1 p.m.-5 p.m., May 20, 2005.

Purpose: This group is charged with providing advice and guidance to the Secretary of Health and Human Services and the Director, CDC, concerning the scientific and technical merit of grant and cooperative agreement applications received from academic institutions and other public and private profit and nonprofit organizations, including State and local government agencies, to conduct specific injury research that focuses on prevention and control and supports Injury Control Research Centers (ICRCs).

Matters to be Discussed: Agenda items include an overview of the injury program, discussion of the review process and panelists' responsibilities, and the review of and vote on applications. From 1 p.m. to 5 p.m., May 20, the Group will review individual research cooperative agreement in response to announcements: #05098, Research in Areas of Acute Care, Disability, and Rehabilitation at the Notre Dame Center for Orthopedic Research and Engineering; #05099, University of Oklahoma Health Sciences Center, Developmental Injury Prevention Research Center; #05100, National Foundation for Trauma Care: The Study of the Impact of a Terrorist Attack on Individual Trauma Centers; #05101, Pennsylvania Chapter of the American College of Emergency Physicians; #05106, Iowa State University, Center for the Study of Violence. This meeting will be closed to the public in accordance with provisions set forth in section 552b(c)(4) and (6), Title 5 U.S.C., and the Determination of the Director, Management Analysis and Services Office, CDC, pursuant to Pub. L. 92-463.

Agenda items are subject to change as priorities dictate.

Contact Person for More Information: Gwendolyn H. Cattledge, Ph.D., M.S.E.H., Executive Secretary, NCIPC IRG, CDC, 4770 Buford Highway, NE., M/S K02, Atlanta, Georgia 30341-3724, telephone (770) 488-4655.

The Director, Management Analysis and Services Office has been delegated the authority to sign Federal Register Notices pertaining to announcements of meetings and other committee management activities for both CDC and Prevention and the Agency for Toxic Substances and Disease Registry.

Dated: April 15, 2005.
Alvin Hall,
Director, Management Analysis and Services Office, Centers for Disease Control and Prevention.

[FR Doc. 05-7995 Filed 4-20-05; 8:45 am]

BILLING CODE 4163-18-P